DEPARTMENT OF COMMERCE

National Oceanic and Atmospheric Administration

RIN 0648-XA418

New England Fishery Management Council; Public Meeting

AGENCY: National Marine Fisheries Service (NMFS), National Oceanic and Atmospheric Administration (NOAA), Commerce.

ACTION: Notice of a public meeting.

SUMMARY: The New England Fishery Management Council's (Council) Groundfish Committee will meet to consider actions affecting New England fisheries in the exclusive economic zone (EEZ).

DATES: The meeting will be held on Thursday, May 26, 2011 at 9 a.m.

ADDRESSES: The meeting will be held at the Crowne Plaza Boston North Shore, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to begin work on Framework Adjustment 47 (FW 47) to the Northeast Multispecies Fishery Management Plan. FW 47 will adopt Annual Catch Limits for fishing years 2012-2014 and will address several management issues. The Committee will discuss adjustments to accountability measures for windowpane flounder, ocean pout, Atlantic halibut, Atlantic wolffish, and SNE/MA winter flounder. They will also discuss modifications to the cap on yellowtail flounder that applies to the scallop fishery access areas in Closed Area I, Closed Area II, and the Nantucket Lightship Closed Area. The Committee will discuss whether changes are needed to the Georges Bank yellowtail flounder rebuilding strategy as a result of the International Fisheries Agreement Clarification Act. They will also review public comments on Amendment 17, an amendment that if approved will authorize state permit banks, and will consider making a recommendation to the Council for that amendment. The Committee will consider providing advice to the National Marine Fisheries Service to consider when making in-season adjustments to common pool trip limits and days-at-sea adjustments. Council staff will update the Committee on plans for a sector workshop. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 3, 2011.
Tracey L. Thompson,
Acting Director, Office of Sustainable Fisheries, National Marine Fisheries Service.

[FR Doc. 2011-11181 Filed 5-6-11; 8:45 am]

BILLING CODE 3510-22-P